DEPARTMENT OF THE INTERIOR

National Park Service

[N6715; NPS-WASO-NAGPRA-NPS0041457; PPWOCRADN0-PCU00RP14.R50000]

Notice of Intended Repatriation: South Carolina Institute of Archaeology and Anthropology, University of South Carolina, Columbia, SC

AGENCY: National Park Service, Interior.

ACTION: Notice.

SUMMARY: In accordance with the Native American Graves Protection and Repatriation Act (NAGPRA), the South Carolina Institute of Archaeology and Anthropology (SCIAA) intends to repatriate certain cultural items that meet the definition of unassociated funerary objects and that have a cultural affiliation with the Indian Tribes or Native Hawaiian organizations in this notice.

DATES: Repatriation of the cultural items in this notice may occur on or after January 20, 2026.

ADDRESSES: Send additional, written requests for repatriation of the cultural items in this notice to Nina Schreiner, South Carolina Institute of Archaeology and Anthropology, College of Arts and Sciences, University of South Carolina, 1321 Pendleton Street, Columbia, SC 29208, email schreinn@email.sc.edu.

SUPPLEMENTARY INFORMATION: This notice is published as part of the National Park Service's administrative responsibilities under NAGPRA. The determinations in this notice are the sole responsibility of the SCIAA, and additional information on the determinations in this notice, including the results of consultation, can be found in the summary or related records. The National Park Service is not responsible for the determinations in this notice.

Abstract of Information Available

A total of five cultural items have been requested for repatriation. From 1967 to 1969, four lots of unassociated funerary objects were removed from sites 38OC1, 38PN2, 38PN4, and 38PN34 in Oconee and Pickens counties, SC during the Keowee-Toxaway Reservoir Survey conducted by SCIAA for Duke Power Company of Charlotte, NC. In 1984, one lot of unassociated funerary objects was removed from site 38OC186 in Oconee County, SC by Dr. Chester B. DePratter of SCIAA, Dr. Mark Williams of the University of Georgia, Athens, GA, and Dr. Marvin T. Smith of Garrow and Associates, Atlanta, GA. The expedition was jointly funded by the LAMAR Institute of Watkinsville, GA and SCIAA. The unassociated funerary objects are culturally affiliated with Cherokee Nation, the Eastern Band of Cherokee Indians, and United Keetoowah Band of Cherokee Indians in Oklahoma. SCIAA is unaware of the presence of any potentially hazardous substances used to treat any of the cultural items.

Determinations

The SCIAA has determined that:

• The five unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Cherokee Nation; Eastern Band of Cherokee Indians; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the SCIAA must determine the most appropriate requestor prior to repatriation. Requests for joint repatriation of the cultural items are considered a single request and not competing requests. The SCIAA is responsible for sending a copy of this notice to the Indian Tribes and Native Hawaiian organizations identified in this notice and to any other consulting parties.

Authority: Native American Graves Protection and Repatriation Act, 25 U.S.C. 3004 and the implementing regulations, 43 CFR 10.9.

Dated: November 25, 2025
Melanie O'Brien,
Manager, National NAGPRA Program.

[FR Doc. 2025-23161 Filed 12-17-25; 8:45 am]

BILLING CODE 4312-52-P